DEPARTMENT OF THE TREASURY

Office of Foreign Assets Control

[Docket No.: OFAC-2024-0005]

Agency Information Collection Activities; Proposed Collection; Comment Request for Rough Diamonds Control Regulations

AGENCY: Office of Foreign Assets Control, Treasury.

ACTION: Notice and request for comments.

SUMMARY: The Department of the Treasury, as part of its continuing effort to reduce paperwork and respondent burden, invites the general public and other Federal agencies to comment on proposed or continuing information collections, as required by the Paperwork Reduction Act of 1995. Currently, the Office of Foreign Assets Control (OFAC) within the Department of the Treasury is soliciting comments concerning OFAC's information collection requirements contained within OFAC's Rough Diamonds Control Regulations.

DATES: Written comments must be submitted on or before December 16, 2024 to be assured of consideration.

ADDRESSES: You may submit comments via the following methods:

Federal eRulemaking Portal: www.regulations.gov. Follow the instructions on the website for submitting comments. Refer to Docket Number OFAC-2024-0005.

Email: OFACreport@treasury.gov with Attn: Request for Comments (Rough Diamonds Control Regulations).

Instructions: All submissions received must include the agency name and refer to Docket Number OFAC-2024-0005 and the Office of Management and Budget (OMB) control number 1505-0198. All comments, including attachments and other supporting materials, will become part of the public record and subject to public disclosure. Sensitive personal information, such as account numbers or Social Security numbers, should not be included. Comments generally will not be edited to remove any identifying or contact information.

FOR FURTHER INFORMATION CONTACT: Assistant Director for Licensing, 202-622-2480; Assistant Director for Regulatory Affairs, 202-622-4855; Assistant Director for Compliance, 202-622-2490 or https://ofac.treasury.gov/contact-ofac.

SUPPLEMENTARY INFORMATION:

Title: Rough Diamonds Control Regulations.

OMB Number: 1505-0198.

Type of Review: Extension without change of a currently approved collection.

Description: The collections of information are contained in section 592.301(a)(3) of OFAC's Rough Diamonds Control Regulations. The person identified as the ultimate consignee on the Customs Form 7501 Entry Summary or its electronic equivalent is required to report that person's receipt of a shipment of rough diamonds to the relevant foreign exporting authority within 15 calendar days of the date that the shipment arrived at the U.S. port of entry.

Forms: Section 592.301(a)(3) states that the report filed by the ultimate consignee need not be in any particular form and may be submitted electronically or by mail or courier.

Affected Public: Business organizations and individuals engaged in the international diamond trade.

Estimated Number of Respondents: Based on data received from the U.S. Department of Homeland Security (DHS), U.S. Customs and Border Protection (CBP), the estimate for the number of unique reporting respondents is approximately 73 respondents per year.

Frequency of Response: The estimated annual frequency of responses is approximately 5.5 per respondent, based on average transaction volume.

Estimated Total Number of Annual Responses: The estimated total number of responses per year is approximately 402.

Estimated Time Per Response: DHS/CBP assesses that there is an average time estimate of 10 minutes per response.

Estimated Total Annual Burden Hours: The estimated total annual reporting burden is approximately 67 hours.

Request for Comments

Comments submitted in response to this notice will be summarized and included in the request for OMB approval. All comments will become a matter of public record. Comments are invited on: (a) whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services required to provide information.

Authority: 44 U.S.C. 3501 et seq.

Lisa M. Palluconi,
Acting Director, Office of Foreign Assets Control.

[FR Doc. 2024-23729 Filed 10-15-24; 8:45 am]

BILLING CODE 4810-AL-P